DEPARTMENT OF HOMELAND SECURITY

Coast Guard

33 CFR Parts 100, 117, 147, and 165

[USCG-2014-0918]

Quarterly Listings; Safety Zones, Security Zones, Special Local Regulations, Drawbridge Operation Regulations and Regulated Navigation Areas

AGENCY: Coast Guard, DHS.

ACTION: Notice of expired temporary rules issued.

SUMMARY: This document provides required notice of substantive rules issued by the Coast Guard and that were made temporarily effective between July 2014 and September 2014, and that expired before they could be published in the Federal Register. This notice lists temporary safety zones, security zones, special local regulations, drawbridge operation regulations and regulated navigation areas, all of limited duration and for which timely publication in the Federal Register was not possible.

DATES: This document lists temporary Coast Guard rules that became effective between July 2014 and September 2014 and were terminated before they could be published in the Federal Register.

ADDRESSES: The Docket Management Facility maintains the public docket for this notice. Documents indicated in this notice will be available for inspection or copying at the Docket Management Facility (M-30), U.S. Department of Transportation, West Building ground floor, Room W12-140, 1200 New Jersey Avenue SE., Washington, DC 20590 between 9 a.m. and 5 p.m., Monday through Friday, except federal holidays.

FOR FURTHER INFORMATION CONTACT: For questions on this notice contact Yeoman First Class Maria Fiorella Villanueva, Office of Regulations and Administrative Law, telephone (202) 372-3862. For questions on viewing, or on submitting material to the docket, contact Cheryl Collins, Program Manager, Docket Operations, telephone 202-366-9826.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Special local regulations are issued to enhance the safety of participants and spectators at regattas and other marine events. Drawbridge operation regulations authorize changes to drawbridge schedules to accommodate bridge repairs, seasonal vessel traffic, and local public events. Regulated Navigation Areas are water areas within a defined boundary for which regulations for vessels navigating within the area have been established by the regional Coast Guard District Commander.

Timely publication of these rules in the Federal Register is often precluded when a rule responds to an emergency, or when an event occurs without sufficient advance notice. The affected public is, however, often informed of these rules through Local Notices to Mariners, press releases, and other means. Moreover, actual notification is provided by Coast Guard patrol vessels enforcing the restrictions imposed by the rule. Because Federal Register publication was not possible before the end of the effective period, mariners were personally notified of the contents of these safety zones, security zones, special local regulations, regulated navigation areas or drawbridge operation regulations by Coast Guard officials on-scene prior to any enforcement action. However, the Coast Guard, by law, must publish in the Federal Register notice of substantive rules adopted. To meet this obligation without imposing undue expense on the public, the Coast Guard periodically publishes a list of these temporary safety zones, security zones, special local regulations, regulated navigation areas and drawbridge operation regulations. Permanent rules are not included in this list because they are published in their entirety in the Federal Register. Temporary rules are also published in their entirety if sufficient time is available to do so before they are placed in effect or terminated. The temporary rules listed in this notice have been exempted from review under Executive Order 12666, Regulatory Planning and Review, because of their emergency nature, limited scope and temporary effectiveness.

The following unpublished rules were placed in effect temporarily during the period between July 2014 and September 2014 unless otherwise indicated. To view copies of these rules, visit www.regulations.gov and search by the docket number indicated in the list below.

Dated: November 12, 2014.
K.G. Cervoni,
Chief, Office of Regulations and Administrative Law.

Docket No. | Location | Type | Effective date
USCG-2014-0519 | Rehoboth Beach, DE | Safety Zones (Parts 147 and 165) | 6/29/2014
USCG-2014-0521 | Atlantic City, NJ | Safety Zones (Parts 147 and 165) | 7/4/2014
USCG-2014-0523 | Sea Isle City, NY | Safety Zones (Parts 147 and 165) | 7/4/2014
USCG-2013-1033 | Port Lake, MI | Safety Zones (Parts 147 and 165) | 7/4/2014
USCG-2014-0535 | Worth, IL | Safety Zones (Parts 147 and 165) | 6/21/2014
USCG-2014-0518 | Wyandotte, MI | Safety Zones (Parts 147 and 165) | 6/27/2014
USCG-2014-0524 | Dewey Beach, DE | Safety Zones (Parts 147 and 165) | 7/4/2014
USCG-2014-0520 | Baltimore & Arundel Counties, MD | Safety Zones (Parts 147 and 165) | 6/20/2014
USCG-2014-0431 | Manhattan, NY | Special Local Regulations (Part 100) | 7/4/2014
USCG-2014-0497 | Manhattan, NY | Security Zones (Part 165) | 6/17/2014
USCG-2014-0525 | Seattle, WA | Drawbridges (Part 117) | 7/11/2014
USCG-2014-0551 | Seattle, WA | Drawbridges (Part 117) | 7/4/2014
USCG-2014-0548 | Seattle, WA | Drawbridges (Part 117) | 7/4/2014
USCG-2014-0550 | Vancouver, WA | Drawbridges (Part 117) | 7/4/2014
USCG-2014-0549 | Portland, OR | Drawbridges (Part 117) | 7/6/2014
USCG-2014-0538 | Lake Michigan, Kewaunee, WI | Safety Zones (Parts 147 and 165) | 7/4/2014
USCG-2014-0533 | Buffalo, NY | Safety Zones (Parts 147 and 165) | 7/4/2014
USCG-2014-0542 | Lake Erie, Bay Village, OH | Safety Zones (Parts 147 and 165) | 7/4/2014
USCG-2014-0537 | Lake Michigan, Racine, WI | Safety Zones (Parts 147 and 165) | 7/4/2014
USCG-2013-1033 | Lake Michigan | Safety Zones (Parts 147 and 165) | 7/3/2014
USCG-2014-0555 | Wolcott, NY | Safety Zones (Parts 147 and 165) | 6/25/2014
USCG-2014-09459 | Philadelphia, PA | Safety Zones (Parts 147 and 165) | 7/9/2014
USCG-2014-0508 | Petersburg, FL | Safety Zones (Parts 147 and 165) | 7/4/2014
USCG-2014-0557 | Liberty State Park, NJ | Safety Zones (Parts 147 and 165) | 7/4/2014
USCG-2014-0562 | Port Savannah Zone, GA | Safety Zones (Parts 147 and 165) | 7/3/2014
USCG-2014-0455 | Sarasota, FL | Safety Zones (Parts 147 and 165) | 7/5/2014
USCG-2014-0496 | Baltimore, MD | Safety Zones (Parts 147 and 165) | 7/15/2014
USCG-2014-0334 | Port Detroit Zone | Safety Zones (Parts 147 and 165) | 7/4/2014
USCG-2014-0528 | Bayfield, MI | Safety Zones (Parts 147 and 165) | 7/4/2014
USCG-2014-0463 | Cape Girardeau, MO | Safety Zones (Parts 147 and 165) | 7/4/2014
USCG-2014-0579 | Washington, DC | Security Zones (Part 165) | 7/1/2014
USCG-2014-0596 | Norwich, CT | Safety Zones (Parts 147 and 165) | 7/5/2014
USCG-2014-0558 | Rochelle, NY | Safety Zones (Parts 147 and 165) | 7/12/2014
USCG-2014-0571 | Ogdenburg, NY | Safety Zones (Parts 147 and 165) | 7/25/2014
USCG-2014-0585 | Nansemond River, VA | Safety Zones (Parts 147 and 165) | 7/6/2014
USCG-2014-0344 | Evansville, IN | Safety Zones (Parts 147 and 165) | 6/13/2014
USCG-2014-0299 | Biloxi, MS | Safety Zones (Parts 147 and 165) | 6/21/2014
USCG-2013-1090 | Louisville, KY | Safety Zones (Parts 147 and 165) | 4/10/2014
USCG-2013-0214 | Port Duluth Zone | Safety Zones (Parts 147 and 165) | 7/4/2014
USCG-2014-0348 | Pittsburg, PA | Safety Zones (Parts 147 and 165) | 7/3/2014
USCG-2014-0484 | Albany, IN | Safety Zones (Parts 147 and 165) | 7/3/2014
USCG-2013-1074 | Pascagoula, MS | Safety Zones (Parts 147 and 165) | 1/16/2014
USCG-2013-0730 | Allegheny and Ohio Rivers | Safety Zones (Parts 147 and 165) | 9/22/2013
USCG-2013-0824 | Pittsburg, PA | Safety Zones (Parts 147 and 165) | 9/26/2013
USCG-2014-0127 | Chattanooga, TN | Special Local Regulations (Part 100) | 6/14/2014
USCG-2014-0525 | Seattle, WA | Drawbridges (Part 117) | 7/18/2014
USCG-2014-0629 | Wilmington, DE | Security Zones (Part 165) | 7/17/2014
USCG-2014-0617 | San Juan Harbor | Special Local Regulations (Part 100) | 7/20/2014
USCG-2012-0403 | Cleveland, OH | Special Local Regulations (Part 100) | 7/12/2014
USCG-2013-0103 | St. Clair, MI | Special Local Regulations (Part 100) | 7/25/2014
USCG-2013-1085 | San Juan, PR | Special Local Regulations (Part 100) | 1/31/2014
USCG-2013-1027 | San Juan, PR | Special Local Regulations (Part 100) | 1/5/2014
USCG-2014-0547 | Ponce, Puerto Rico | Special Local Regulations (Part 100) | 6/29/2014
USCG-2014-0415 | San Juan, PR | Special Local Regulations (Part 100) | 5/25/2014
USCG-2014-0252 | St. Thomas Virgin Islands | Safety Zones (Parts 147 and 165) | 5/3/2014
USCG-2014-0590 | Gross Pointe Shore, MI | Safety Zones (Parts 147 and 165) | 7/11/2014
USCG-2014-0591 | Port Huron, MI | Safety Zones (Parts 147 and 165) | 7/10/2014
USCG-2014-0583 | Cornucopia, WI | Safety Zones (Parts 147 and 165) | 7/5/2014
USCG-2014-0625 | Toledo, OH | Safety Zones (Parts 147 and 165) | 7/16/2014
USCG-2014-0578 | Lorain, OH | Safety Zones (Parts 147 and 165) | 7/26/2014
USCG-2014-0532 | Eureka, CA | Safety Zones (Parts 147 and 165) | 7/3/2014
USCG-2014-0510 | Cedar Point, OH | Safety Zones (Parts 147 and 165) | 7/4/2014
USCG-2012-0087 | Port Zone Puget Sound | Security Zones (Part 165) | 7/20/2014
USCG-2013-0458 | Seattle, WA | Security Zones (Part 165) | 7/22/2014
USCG-2014-0627 | Detriot, MI | Security Zones (Part 165) | 7/17/2014
USCG-2014-0564 | Massachusetts | Safety Zones (Parts 147 and 165) | 7/29/2014
USCG-2014-0631 | Neptune, NJ | Safety Zones (Parts 147 and 165) | 8/2/2014
USCG-2014-0634 | Atlantic City, NJ | Safety Zones (Parts 147 and 165) | 7/31/2014
USCG-2014-0641 | Chicago, IL | Safety Zones (Parts 147 and 165) | 7/18/2014
USCG-2014-0623 | Chicago, IL | Safety Zones (Parts 147 and 165) | 7/15/2014
USCG-2014-0534 | Cleveland, OH | Safety Zones (Parts 147 and 165) | 7/12/2014
USCG-2014-0527 | Outer Apra Harbor | Safety Zones (Parts 147 and 165) | 8/29/2014
USCG-2014-0599 | Lorain, OH | Safety Zones (Parts 147 and 165) | 8/2/2014
USCG-2014-0624 | Long Island Sound Zone | Security Zones (Part 165) | 7/22/2014
USCG-2014-0613 | Manhattan, NY | Security Zones (Part 165) | 7/17/2014
USCG-2014-0312 | Tampa, FL | Special Local Regulations (Part 100) | 7/12/2014
USCG-2014-0676 | Walnut Grove, CA | Drawbridges (Part 117) | 7/30/2014
USCG-2014-0632 | Charles County, MD | Safety Zones (Parts 147 and 165) | 7/21/2014
USCG-2014-0601 | Washington, DC | Security Zones (Part 165) | 8/4/2014
USCG-2014-0507 | Pittsburg, PA | Safety Zones (Parts 147 and 165) | 8/1/2014
USCG-2014-0618 | Ogden Island, NY | Safety Zones (Parts 147 and 165) | 8/2/2014
USCG-2014-0677 | Pittsburg, PA | Safety Zones (Parts 147 and 165) | 8/8/2014
USCG-2014-0194 | Falls of Clyde, HI | Safety Zones (Parts 147 and 165) | 7/28/2014
USCG-2014-0412 | 7th Coast Guard District | Special Local Regulations (Part 100) | 7/17/2014
USCG-2014-0638 | Captiva Island, FL | Security Zones (Part 165) | 7/17/2014
USCG-2014-0707 | Long Beach, CA | Special Local Regulations (Part 100) | 8/9/2014
USCG-2014-0712 | Port Huron, MI | Special Local Regulations (Part 100) | 8/10/2014
USCG-2014-0711 | Port Huron, MI | Safety Zones (Parts 147 and 165) | 8/17/2014
USCG-2014-0081 | Port Buffalo Zone | Safety Zones (Parts 147 and 165) | 8/17/2014
USCG-2014-0725 | Grosse Point Shores, MI | Safety Zones (Parts 147 and 165) | 8/15/2014
USCG-2013-0996 | Fruitland, WA | Safety Zones (Parts 147 and 165) | 8/12/2014
USCG-2014-0730 | Lake Tahoe, CA | Safety Zones (Parts 147 and 165) | 8/5/2014
USCG-2014-0678 | Alameda, CA | Safety Zones (Parts 147 and 165) | 8/13/2014
USCG-2014-0597 | Vallejo, CA | Drawbridges (Part 117) | 8/8/2014
USCG-2014-0647 | Buffalo, NY | Safety Zones (Parts 147 and 165) | 8/10/2014
USCG-2014-0749 | Duluth, MN | Safety Zones (Parts 147 and 165) | 8/29/2014
USCG-2014-0731 | Hawaiian Islands | Safety Zones (Parts 147 and 165) | 8/6/2014
USCG-2014-0371 | Paducah, KY | Safety Zones (Parts 147 and 165) | 6/21/2014
USCG-2012-0375 | Milwaukee, WI | Safety Zones (Parts 147 and 165) | 7/1/2014
USCG-2014-0379 | Paradise, KY | Safety Zones (Parts 147 and 165) | 6/27/2014
USCG-2014-0209 | Galveston, TX | Safety Zones (Parts 147 and 165) | 3/22/2014
USCG-2014-0251 | Pittsburg, PA | Safety Zones (Parts 147 and 165) | 4/4/2014
USCG-2014-0216 | Matagorda Ship Channel, TX | Safety Zones (Parts 147 and 165) | 3/26/2014
USCG-2014-0728 | Paulsboro, NJ | Safety Zones (Parts 147 and 165) | 8/4/2014
USCG-2014-0740 | Tampa, FL | Safety Zones (Parts 147 and 165) | 8/16/2014
USCG-2014-0766 | Newport News, VA | Safety Zones (Parts 147 and 165) | 8/13/2014
USCG-2014-0750 | Duluth, MN | Safety Zones (Parts 147 and 165) | 8/22/2014
USCG-2014-0767 | Rio Vista, CA | Drawbridges (Part 117) | 8/20/2014
USCG-2014-0768 | Rio Vista, CA | Drawbridges (Part 117) | 8/20/2014
USCG-2014-0758 | Pine Bluff, AR | Drawbridges (Part 117) | 8/28/2014
USCG-2014-0206 | Kemah, TX | Special Local Regulations (Part 100) | 4/27/2014
USCG-2014-0673 | Long Island, ME | Special Local Regulations (Part 100) | 8/16/2014
USCG-2014-0517 | Mobile, AL | Special Local Regulations (Part 100) | 8/2/2014
USCG-2014-0674 | Lincolnville, ME | Safety Zones (Parts 147 and 165) | 8/23/2014
USCG-2014-0742 | Dumfries, VA | Safety Zones (Parts 147 and 165) | 8/30/2014
USCG-2014-0773 | Puget Sound, WA | Safety Zones (Parts 147 and 165) | 8/28/2014
USCG-2014-0774 | Cleveland, OH | Safety Zones (Parts 147 and 165) | 8/28/2014
USCG-2014-0699 | Camden, ME | Safety Zones (Parts 147 and 165) | 8/29/2014
USCG-2014-0621 | Carnelian Bay, CA | Safety Zones (Parts 147 and 165) | 8/30/2014
USCG-2013-0998 | San Francisco, CA | Safety Zones (Parts 147 and 165) | 8/27/2014
USCG-2014-0173 | South Lake Tahoe, CA | Safety Zones (Parts 147 and 165) | 8/30/2014
USCG-2014-0716 | Cleveland, OH | Safety Zones (Parts 147 and 165) | 8/23/2014
USCG-2014-0756 | Madison Township | Safety Zones (Parts 147 and 165) | 8/31/2014
USCG-2013-0320 | Chicago, IL | Safety Zones (Parts 147 and 165) | 9/6/2014
USCG-2014-0808 | Chicago, IL | Safety Zones (Parts 147 and 165) | 8/28/2014
USCG-2014-0714 | Tampa, FL | Security Zones (Part 165) | 8/28/2014
USCG-2014-0787 | Pittsburg, PA | Security Zones (Part 165) | 8/28/2014
USCG-2014-0814 | Milwaukee, WI | Security Zones (Part 165) | 9/1/2014
USCG-2014-0540 | Baltimore, MD | Special Local Regulations (Part 100) | 9/11/2014
USCG-2014-0541 | Baltimore, MD | Special Local Regulations (Part 100) | 9/11/2014
USCG-2014-0760 | San Francisco, CA | Drawbridges (Part 117) | 9/7/2014
USCG-2014-0587 | Ashland City, TN | Special Local Regulations (Part 100) | 9/6/2014
USCG-2014-0652 | Livermore, KY | Special Local Regulations (Part 100) | 8/23/2014
USCG-2014-0648 | Tampa, FL | Safety Zones (Parts 147 and 165) | 8/31/2014
USCG-2014-0675 | Charlotte, VT | Safety Zones (Parts 147 and 165) | 9/7/2014
USCG-2014-0741 | Tampa, FL | Safety Zones (Parts 147 and 165) | 8/31/2014
USCG-2014-0802 | Vancouver, WA | Drawbridges (Part 117) | 9/14/2014
USCG-2014-0828 | San Francisco, CA | Drawbridges (Part 117) | 9/17/2014
USCG-2013-0203 | Saipan Harbor | Safety Zones (Parts 147 and 165) | 9/9/2014
USCG-2014-0460 | Miami, FL | Safety Zones (Parts 147 and 165) | 9/13/2014
USCG-2014-0785 | Kodiak Island, AK | Safety Zones (Parts 147 and 165) | 8/24/2014
USCG-2014-0840 | Torrance, CA | Special Local Regulations (Part 100) | 9/21/2014
USCG-2014-0811 | Chicago, IL | Safety Zones (Parts 147 and 165) | 9/13/2014
USCG-2014-0778 | Newport, Rhode Island | Security Zones (Part 165) | 8/29/2014
USCG-2014-0809 | Long Island, NY | Drawbridges (Part 117) | 9/22/2014
USCG-2014-0869 | Chicago, IL | Safety Zones (Parts 147 and 165) | 9/22/2014
USCG-2014-0757 | Lower Mississippi River | Safety Zones (Parts 147 and 165) | 8/19/2014
USCG-2014-0739 | Orange Beach, AL | Safety Zones (Parts 147 and 165) | 9/8/2014
USCG-2014-0727 | Gulfport, MS | Safety Zones (Parts 147 and 165) | 8/6/2014
USCG-2014-0827 | Port NY zone | Safety Zones (Parts 147 and 165) | 9/21/2014
USCG-2014-0823 | Port Boston Zone | Safety Zones (Parts 147 and 165) | 9/20/2014
USCG-2014-0800 | Augusta, GA | Safety Zones (Parts 147 and 165) | 9/28/2014
USCG-2014-0860 | Sacramento, CA | Drawbridges (Part 117) | 9/28/2014
USCG-2014-0833 | Sacramento, CA | Drawbridges (Part 117) | 9/21/2014
USCG-2014-0841 | Washington, DC | Security Zones (Part 165) | 9/11/2014
USCG-2014-0771 | Newport, Rhode Island | Security Zones (Part 165) | 9/15/2014
USCG-2014-0836 | Newport, Rhode Island | Security Zones (Part 165) | 9/16/2014
USCG-2014-2013 | Lake Michigan, Kewaunee, WI | Safety Zones (Part 165) | 7/2/2014
USCG-2012-0880 | Terrebonne Parish, LA | Safety Zones (Part 165) | 1/17/2014

[FR Doc. 2014-27164 Filed 11-14-14; 8:45 am]

BILLING CODE 9110-04-P